DEPARTMENT OF TRANSPORTATION

Surface Transportation Board

[STB Finance Docket No. 34032]

Canadian Pacific Railway Company—Trackage Rights Exemption—Consolidated Rail Corporation

Consolidated Rail Corporation (Conrail) has agreed to grant overhead trackage rights to Canadian Pacific Railway Company (CPR) over its Michigan Line between the Conrail/Detroit River Tunnel Partnership property line at the west portal of the Detroit River Tunnel at milepost 2.02 and the Conrail/CSX Transportation, Inc. (CSXT) property line at the new connection between Conrail's Michigan Line and CSXT's Detroit Subdivision at milepost 5.50+/−of Conrail's Michigan Line, a distance of approximately 3.48 miles.¹

¹ A redacted version of the trackage rights agreement between CPR and Conrail was filed with the notice of exemption. The full version of the agreement, as required by 49 CFR 1180.6(a)(7)(ii), was concurrently filed under seal along with a motion for protective order. A protective order was served on May 29, 2001.

The transaction was scheduled to be consummated on or shortly after May 24, 2001.

The purpose of this trackage rights is to allow CPR to utilize a new connection being built between Conrail's Michigan Line at milepost 5.50+/−and CSXT's line of railroad known as the Detroit Subdivision, at milepost CH-7.5+/−, located entirely within the City of Detroit, MI.²

² This transaction is related to the verified notice of exemption filed with the Board on May 17, 2001, STB Finance Docket No. 34033, Canadian Pacific Railway Company—Trackage Rights Exemption-CSX Transportation, Inc.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34032, must be filed with the Surface Transportation Board, Office of the Secretary, Case Control Unit, 1925 K Street, NW., Washington, DC 20423-0001. In addition, a copy of each pleading must be served on Diane P. Gerth, LEONARD, STREET AND DEINARD, 150 South Fifth Street, Minneapolis, MN 55402.

Board decisions and notices are available on our website at “WWW.STB.DOT.GOV.”

Decided: May 29, 2001.
By the Board, David M. Konschnik, Director, Office of Proceedings.
Vernon A. Williams,
Secretary.

[FR Doc. 01-13953 Filed 6-5-01; 8:45 am]

BILLING CODE 4915-00-P